POSTAL SERVICE

39 CFR Part 111

New Address and Barcode Requirements for Automation, Presorted, and Carrier Route Flat-Size Mail

AGENCY: Postal Service.

ACTION: Proposed rule.

SUMMARY: The Postal Service proposes new address placement requirements for Periodicals, Standard Mail, Bound Printed Matter, Media Mail, and Library Mail flat-size pieces sent at automation, presorted, or carrier route rates. We also propose to require an 11-digit POSTNET barcode or Intelligent Mail barcode on flat-size First-Class Mail, Periodicals, Standard Mail, and Bound Printed Matter sent at automation rates. In addition, we propose related revisions to the address requirements for automation and presorted First-Class Mail flats.

DATES: We must receive your comments on or before December 10, 2007.

ADDRESSES: Mail or deliver written comments to the Manager, Mailing Standards, U.S. Postal Service, 475 L'Enfant Plaza, SW., Room 3436, Washington, DC 20260-3436. You may inspect and photocopy all written comments at Postal Service Headquarters Library, 475 L'Enfant Plaza, SW., 11th Floor N, Washington, DC between 9 a.m. and 4 p.m., Monday through Friday.

FOR FURTHER INFORMATION CONTACT: Carrie Witt, 202-268-7279.

SUPPLEMENTARY INFORMATION: The Postal Service is implementing a new technology, the Flats Sequencing System (FSS), to automate delivery sequencing for flat-size mail. Currently, flat-size mail is sorted mechanically only to the 9-digit ZIP Code or carrier level, and then manually sorted into delivery order by carriers. FSS can sort flat-size mailpieces into delivery sequence, increasing efficiency by reducing carriers' time sorting mail, and allowing carriers to begin delivering mail earlier in the day.

Similar technology boosted postal efficiencies in processing and delivering letter mail in the 1990s. We can significantly increase efficiency and reduce delivery costs for flat-size mail with FSS technology. FSS can sequence flat mail at a rate of approximately 16,500 pieces per hour. Scheduled to operate 17 hours per day, each machine will be capable of sequencing 280,500 mailpieces daily to more than 125,000 delivery addresses.

As we move toward national deployment of FSS, we are working closely with the mailing industry to make the most of this investment and achieve the lowest combined costs for handling flat-size mail, including developing new standards for optimal addressing. Unlike letter mail, which is fairly uniform in size and address location, flat mail covers a broad range of sizes and has highly variable address placement. We need new mailing standards for this diverse mailstream to promote consistent addressing for all flat-size pieces and ensure efficiency in all flats processing and delivery operations.

Toward this goal, we are proposing new standards requiring mailers to use an 11-digit POSTNET barcode or Intelligent Mail barcode on all automation rate First-Class Mail, Periodicals, Standard Mail, and Bound Printed Matter flat-size pieces. Mailers must also place the address in the upper portion of all Periodicals, Standard Mail, Bound Printed Matter, Media Mail, and Library Mail flat-size pieces mailed at automation, presorted, or carrier route rates. Mailers may place the address parallel or perpendicular to the top edge, but not upside down as read in relation to the top edge. For bound or folded pieces not in envelopes or polywrap, the “top” of the mailpiece is the upper edge when the bound or final folded edge is vertical and on the right side of the piece. For enveloped or polywrapped pieces, the “top” is either of the shorter edges.

Mailers must address all presorted, carrier route, and automation flat-size mailpieces using a minimum of 8-point type. In addition, for all automation pieces, the lines and the characters in the address must not touch or overlap, and each element of the address line may be separated by no more than three blank character spaces.

The new standards will enable FSS to process flat-size pieces in delivery sequence at high speeds and reduce the time carriers spend manually sorting flat-size mail. The new standards further increase efficiency by ensuring that carriers need not reorient flat-size pieces to read the address, whether the mail is held, pulled from a mailbag, or removed from a tray.

As we transition to the automated flats processing environment, the Intelligent Mail barcode provides opportunities for mailers to save space within the address block. For example, mailers can include all tracking and routing information and avoid reproducing human-readable ACS codes and keylines. In addition, to further mitigate the larger type size requirements, we are looking at ways to shorten optional endorsement lines and allow mailers to place mailer-specified information (such as customer numbers) to the left of the optional endorsement line when OneCode ACS is used. We may also be able to reduce the amount of clear space required under the Intelligent Mail barcode. We will publish these changes in a future revision. For other ways to reduce address block size, refer to Publication 28, Postal Addressing Standards (available on Postal Explorer at pe.usps.com; click on “Address Quality” in the left frame, then “Address Management Publications”).

Although we are exempt from the notice and comment requirements of the Administrative Procedure Act [5 U.S.C. 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3626, 5001.

2. Revise the following sections of Mailing Standards of the United States Postal Service, Domestic Mail Manual (DMM), as follows:

* * * * *

300 Discount Mail: Flats

* * * * *

302 Elements on the Face of a Mailpiece

1.0 All Mailpieces

* * * * *

[Revise 1.2 as follows:]

1.2 Delivery Address

The delivery address specifies the location to which the USPS is to deliver a mailpiece. Except for mail prepared with detached address labels under 602.4.0, the piece must have the address of the intended recipient, visible and legible, only on the side of the piece bearing postage. Use at least 8-point type (8-point type is approximately ⅒-inch high). An Arial font is preferred. Additional standards apply to presorted, automation-compatible, and carrier route rate flats mailed at First-Class Mail, Periodicals, Standard Mail, Bound Printed Matter, Media Mail, and Library Mail rates (see 2.0).

* * * * *

[Renumber 2.0 through 4.0 as 3.0 through 5.0. Insert new 2.0 as follows:]

2.0 Address Placement

2.1 Basic Standards

On all Periodicals, Standard Mail, Bound Printed Matter, Media Mail, and Library Mail flats mailed at presorted, automation, or carrier route rates, mailers must place the address block at least ⅛ inch from any edge of the mailpiece. For the purposes of these standards, the “address block” is defined as the recipient's name or other identification; the company information line; the street and number, and any necessary secondary information; and the city, state, and ZIP Code. The address may appear on the front or the back of the mailpiece (but must be on the side bearing postage), parallel or perpendicular to the top edge, but it cannot be upside down as read in relation to the top edge. See 2.2 for additional standards for enveloped or polywrapped pieces, and 2.3 for bound or folded pieces not in envelopes or polywrap.

2.2 Address Placement on Enveloped or Polywrapped Pieces

The following standards apply to enveloped or polywrapped Periodicals, Standard Mail, Bound Printed Matter, Media Mail, and Library Mail flats mailed at presorted, automation, or carrier route rates:

a. The “top” of the mailpiece is either of the shorter edges.

b. If the address is parallel to the top edge, the entire address block must appear within 3 inches of the top of the mailpiece. If the address is perpendicular to the top edge, one edge of the address block (either the first or last possible character) must be within 2½ inches of the top of the mailpiece. See Exhibit 2.3.

c. On all pieces, the address block must be at least 1 inch closer to the top than to the bottom of the piece.

d. When the address is placed on an insert polywrapped with the host piece,the insert must be secured to maintain address placement throughout processing and delivery.

2.3 Address Placement on Bound or Folded Pieces

The following standards apply to bound or folded Periodicals, Standard Mail, Bound Printed Matter, Media Mail, and Library Mail flats mailed at presorted, automation, or carrier route rates not in envelopes or polywrap:

a. The “top” is the upper edge of the mailpiece when the bound or final folded edge is vertical and on the right side of the piece. Exception: For Carrier Route (or Enhanced Carrier Route) saturation rate pieces, the “top” of the mailpiece is either of the shorter edges.

b. If the address is parallel to the top edge, the entire address block must appear within 3 inches of the top of the mailpiece. If the address is perpendicular to the top edge, one edge of the address block (either the first or last possible character) must be within 2½ inches of the top of the mailpiece. See Exhibit 2.3.

c. On all pieces, the address block must be at least 1 inch closer to the top than to the bottom of the piece.

Exhibit 2.3 Address Placement

2.4 Type Size and Line Spacing

On all First-Class Mail, Periodicals, Standard Mail, Bound Printed Matter, Media Mail, and Library Mail flats mailed at presorted, automation, or carrier route rates, mailers must print the address using at least 8-point type (8-point type is approximately ⅒-inch high). An Arial font is preferred. These additional standards apply to automation rate pieces:

a. The individual characters and the individual lines in the address cannot touch or overlap. A minimum 0.028-inch clear space between lines is preferred.

b. Each element on each line of the address may be separated by no more than three blank character spaces. For example, “ANYTOWN U.S. 12345,” not “ANYTOWN U.S. 12345.”

* * * * *

5.0 Barcode Placement

[Revise heading and text of renumbered 5.1 to require 11-digit POSTNET barcodes when a POSTNET barcode is used on automation flat-size pieces, as follows:]

5.1 Basic Standards

On any flat-size piece claimed at automation rates (including machinable barcoded Periodicals rates), the piece must bear one 11-digit POSTNET barcode or one Intelligent Mail barcode under 5.3 or it may bear two 11-digit POSTNET barcodes under 5.4. Other mailer-applied non-USPS barcodes may appear on the address side of the piece if the barcode format is not detectable by automated postal equipment as a routing code. Automation rate flat-size pieces must not bear a 5-digit or a ZIP+4 barcode.

[Further renumber 5.5, DPBC Numeric Equivalent, as new 5.2. Renumber 5.2 through 5.4 as 5.3 through 5.5.]

* * * * *

[Delete renumbered 5.5, 5-Digit and ZIP+4 Barcode Permissibility. Further renumber 5.6 and 5.7 as 5.5 and 5.6.]

* * * * *

330 First-Class Mail

333 Rates and Eligibility

* * * * *

5.0 Additional Eligibility Standards for Automation Rate First-Class Mail Flats

5.1 Basic Standards for Automation First-Class Mail

All pieces in a First-Class Mail automation rate mailing must:

* * * * *

[Revise item e to require 11-digit POSTNET barcodes or Intelligent Mail barcodes as follows:]

e. Bear an accurate 11-digit POSTNET barcode or Intelligent Mail barcode with a delivery point routing code (either on the piece or on an insert showing through a window) meeting the standards in 302.5.0, Barcode Placement, and 708.4.0, Standards for POSTNET and Intelligent Mail Barcodes.

* * * * *

5.4 Address Standards for Barcoded Pieces

* * * * *

5.4.4 Address Elements

[Add a new last sentence to 5.4.4 to reference the address placement standards as follows:]

* * * The address must appear on the piece according to 302.2.4.

* * * * *

340 Standard Mail

343 Rates and Eligibility

* * * * *

7.0 Additional Eligibility Standards for Automation Rate Standard Mail Flats

7.1 General

All pieces in a Regular Standard Mail or Nonprofit Standard Mail automation rate mailing must:

[Revise item e to require 11-digit POSTNET barcodes or Intelligent Mail barcodes as follows:]

e. Bear an accurate 11-digit POSTNET barcode or Intelligent Mail barcode with a delivery point routing code (either on the piece or on an insert showing through a window) meeting the standards in 302.5.0, Barcode Placement, and 708.4.0, Standards for POSTNET and Intelligent Mail Barcodes.

* * * * *

7.3 Address Standards for Barcoded Pieces

* * * * *

7.3.4 Address Elements

[Add a new last sentence to 7.3.4 to reference the address placement standards as follows:]

* * * The address must appear on the piece according to 302.2.0.

* * * * *

360 Bound Printed Matter

363 Rates and Eligibility

* * * * *

6.0 Additional Eligibility Standards for Barcoded Bound Printed Matter Flats

6.1 General

[Revise 6.1 to require 11-digit POSTNET barcodes or Intelligent Mail barcodes as follows:]

The barcode discount applies only to BPM flat-size pieces that bear a correct, readable 11-digit POSTNET barcode under 708.4.0, Standards for POSTNET and Intelligent Mail Barcodes, for the numeric DPBC of the delivery address. Instead of a POSTNET barcode, pieces may bear Intelligent Mail barcodes (under 708.4.0) containing a delivery point routing code for the delivery address. The pieces must be part of a nonpresorted rate mailing of 50 or more flat-size pieces or part of a presorted rate mailing of at least 300 BPM flat-size pieces prepared under 705.8.0, Preparing Pallets, and 365.7.0, Preparing Barcoded Flats. The barcode discount is not available for flat-size pieces mailed at Presorted DDU rates or carrier route rates. To qualify for the barcode discount, the flat-size piece must meet the standards in 301.3.0, Additional Criteria for Automation Flats.

* * * * *

6.3 Address Standards for Barcode Discount

* * * * *

6.3.4 Address Elements

[Add a new last sentence to 6.3.4 to reference the address placement standards as follows:]

* * * The address must appear on the piece according to 302.2.0.

* * * * *

370 Media Mail

373 Rates and Eligibility

* * * * *

3.0 Rate Eligibility for Media Mail Flats

* * * * *

3.3 Delivery and Return Addresses

All Media Mail must bear a delivery address. The delivery address on each piece must include the correct ZIP Code or ZIP+4 code. The address must appear on the piece according to 302.2.0. Alternative addressing formats under 602.3.0 or detached address labels under 602.4.0 may be used. Each piece must bear the sender's return address.

* * * * *

380 Library Mail

383 Rates and Eligibility

* * * * *

3.0 Rate Eligibility for Library Mail Flats

* * * * *

3.3 Delivery and Return Addresses

All Library Mail must bear a delivery address. The delivery address on each piece must include the correct ZIP Code or ZIP+4 code. The address must appear on the piece according to 302.2.0. Alternative addressing formats under 602.3.0 or detached address labels under 602.4.0 may be used. Each piece must bear the sender's return address.

* * * * *

700 Special Standards

* * * * *

707 Periodicals

* * * * *

3.0 Physical Characteristics and Content Eligibility

* * * * *

3.2 Addressing

3.2.1 General

[Revise 3.2.1 to require 11-digit POSTNET barcodes or Intelligent Mail barcodes on machinable barcoded flats as follows:]

Each addressed piece, including the top copy of a firm bundle, must bear the addressee's name and address. The address must include the correct ZIP+4 code or 5-digit ZIP Code. Flat-size pieces mailed at the machinable barcoded rates must include the correct 11-digit POSTNET barcode or Intelligent Mail barcode (under 708.4.0) containing a delivery point routing code for the delivery address.

* * * * *

3.2.3 Address Placement

[Revise 3.2.3 to reference the new address placement standards as follows:]

The delivery address must be clearly visible on or through the outside of the mailpiece, whether placed on a label or directly on the host publication, a component, or the mailing wrapper. If placed on the mailing wrapper, the address must be on a flat side, not on a fold. If a polybag is used, the address must not appear on a component that rotates within the bag, and the address must remain visible throughout the addressed component's range of motion. For flat-size pieces, mailers must follow the additional address placement and formatting standards in 302.2.0 and 302.5.0.

* * * * *

[Delete Exhibit 3.2.4, Address Placement for Periodicals.]

* * * * *

3.3 Permissible Mailpiece Components

* * * * *

3.3.10 Label Carrier

A label carrier may be used to carry the delivery address for the mailpiece and must consist of a single unfolded, uncreased sheet of card or paper stock, securely affixed to the cover of the publication or large enough so that it does not rotate inside the wrapper, subject to these conditions:

* * * * *

[Insert new item e as follows:]

e. For flat-size pieces, mailers must follow the additional address placement and formatting standards in 302.2.0 and 302.5.0.

* * * * *

13.0 Carrier Route Rate Eligibility

13.1 Basic Standards

* * * * *

13.1.2 Address Quality

All pieces in a Periodicals carrier route rate mailing must bear a delivery address that includes the correct ZIP Code or ZIP+4 code and that meets these address quality standards:

* * * * *

[Insert new item d as follows:]

d. For flat-size pieces, mailers must follow the additional address placement and formatting standards in 302.2.0 and 302.5.0.

* * * * *

14.0 Barcoded (Automation) Rate Eligibility

14.1 Basic Standards

14.1.1 General

All pieces in a Periodicals barcoded (automation) rate mailing must:

* * * * *

[Revise item b as follows:]

b. Bear a delivery address that includes the correct ZIP Code or ZIP+4 code, and that meets these address quality standards:

* * * * *

c. Bear an accurate barcode meeting the standards in 708.4.0, under these conditions:

* * * * *

[Revise item c2 to require 11-digit POSTNET barcodes or Intelligent Mail barcodes as follows:]

2. If a flat: The mailer may use an 11-digit POSTNET or an Intelligent Mail barcode with a delivery point routing code, under 708.4.0. Mailers may apply the barcode either on the piece or on an insert showing through a window.

* * * * *

We will publish an appropriate amendment to 39 CFR part 111 to reflect these changes if our proposal is adopted.

Neva R. Watson,
Attorney, Legislative.

[FR Doc. E7-19932 Filed 10-9-07; 8:45 am]

BILLING CODE 7710-12-P